DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 7, 2023 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Healthy Meals Incentives Recognition Awards Application for School Food Authorities.

OMB Control Number: 0584-NEW.

Summary of Collection: This collection of information is necessary for the application of the Healthy Meals Incentives (HMI) Recognition Awards by School Food Authorities (SFAs). The Recognition Awards will recognize SFAs that have made significant improvements to the nutritional quality of their school meals by exceeding the transitional school meal pattern requirements, engaging students, and implementing innovative practices.

Need and Use of the Information: The Food and Nutrition Services (FNS) will collect applications from SFAs for the HMI Recognition Awards. The HMI Recognition Awards will spotlight innovative practices, student and community engagement strategies, and strategies schools have used to provide meals that are consistent with the 2020-2025 Dietary Guidelines for Americans. SFAs meeting Healthy Meals Incentives Recognition Award criteria will receive nonmonetary recognition and stipends to attend and participate in the Healthy Meals Summits.

FNS will highlight and share these diverse best practices nationwide through training and technical assistance resources and Healthy Meals Summits.

Description of Respondents: School Food Authorities (SFAs) that participate in the National School Lunch Program (NSLP) and State agencies that administer the NSLP and/or SBP, and have agreements with the SFAs.

Number of Respondents: 2,054.

Frequency of Responses: Reporting: On occasion, annually.

Total Burden Hours: 38,003.

Ruth Brown,
Departmental Information Collection Clearance Officer.

[FR Doc. 2023-09696 Filed 5-5-23; 8:45 am]

BILLING CODE 3410-30-P